DEPARTMENT OF THE INTERIOR

National Park Service

National Register of Historic Places; Notification of Pending Nominations and Related Actions

Nominations for the following properties being considered for listing or related actions in the National Register were received by the National Park Service before January 1, 2005. Pursuant to section 60.13 of 36 CFR part 60 written comments concerning the significance of these properties under the National Register criteria for evaluation may be forwarded by the United States Postal Service to the National Register of Historic Places, National Park Service, 1849 C St. NW., 2280, Washington, DC 20240; by all other carriers, the National Register of Historic Places, National Park Service,1201 Eye St. NW., 8th floor, Washington DC 20005; or by fax, 202-371-6447. Written or faxed comments should be submitted by January 31, 2005.

Carol D. Shull,
Keeper of the National Register of Historic Places.

ALASKA

Kenai Peninsula Borough-Census Area

Holm, Victor, Homestead, Address Restricted, Kasilof, 05000032

ILLINOIS

Cook County

Georgian Hotel, 422 Davis St., Evanston, 04001534

This resource was incorrectly reported on the list dated 12/11/04 as pending for listing but is pending for a determination of eligibility.

KANSAS

Comanche County

Chief Theater, (Theaters and Opera Houses of Kansas MPS), 122 E. Main St., Coldwater, 05000010

MICHIGAN

Wayne County

Palmer Park Apartment Buildings Historic District (Boundary Increase), Approx. bounded by Covington Dr., Pontchartrain Blvd., Woodward Ave., and W. McNichols Rd., Detroit, 05000014

MISSOURI

St. Louis Independent City

Crunden—Martin Manufacturing Company, 104 Cedar,760 S. 2nd St., 757 S. 2nd St., St. Louis (Independent City), 05000013

De Hodiamont Car House Historic District, Bounded by N. Skinker Pkwy, Horton Place, Wabash RR tracks, St. Louis (Independent City), 05000012

MONTANA

Granite County

Morgan—Case Homestead, Dirt Rd. S of confluence of Hogback Creek and Rock Creek, Phillipsburg, 05000011

NEW YORK

Broome County

Jones, Gen. Edward F., House, 9 Asbury Court, Binghamton, 05000020

Jefferson County

First Baptist Church and Cook Memorial Building, 511 State St., Carthage, 05000016

Niagara County

Town of Niagara District School No. 2, 9670 Lockport Rd., Niagara Falls, 05000021

Orange County

Colden Family Cemetery, Off of Maple Ave., Montgomery, 05000017

Montgomery Water Works Building, 239 Ward St., Montgomery, 05000019

Tompkins County

Ithaca Downtown Historic District, E. and W. State, N. & S. Cayuga, N. Aurora, N. Tioga Sts., Ithaca, 05000018

Ulster County

Palen, Frank A., House, 74-76 St. James St., Kingston, 05000015

OHIO

Ashtabula County

Rock Creek School, 2987 High St., Rock Creek, 05000023

Butler County

Sigma Alpha Epsilon Chapter House of Miami University, 310 Tallawanda Rd., Oxford, 05000022

Cuyahoga County

Halle's Shaker Square, 13000 Shaker Blvd., Cleveland, 05000029

Franklin County

Franklinton Apartments of State and May, 494-504 State St., 74-82 S. May Ave., Columbus, 05000027

Franklinton Apartments at Broad and Hawkes, 949-957 W. Broad St., 13-23 Hawkes Ave., Columbus, 05000028

Jackson County

Scioto Grange No. 1234, 255 Cove Rd., Jackson, 05000030

Lake County

Mentor Village School, 7482 Center St., Mentor, 05000026

Lorain County

Gould Block, 608-630 Broadway Ave., Lorain, 05000031

Miami County

McKinley School, 240 S. Main St., West Milton, 05000025

Stark County

St. Edward Hotel, 400 Market Ave. N, Canton, 05000024

SOUTH DAKOTA

Aurora County

Sweep Hotel, South Main, Plankinton, 05000033

Beadle County

Drake, Hattie O. and Henry, Octagon House, 605 Third St. SW., Huron, 05000035

Faulk County

Faulkton American Legion Hall, 107 Eighth Ave. N., Faulkton, 05000034

Lawrence County

Johnson Ranch, 221 Upper Valley Rd., Spearfish, 05000036

[FR Doc. 05-764 Filed 1-13-05; 8:45 am]

BILLING CODE 4312-51-P